DEPARTMENT OF HOUSING AND URBAN DEVELOPMENT

[Docket No. FR-5408-N-01]

Notice of Intent To Prepare an Environmental Impact Statement for the Yesler Terrace Redevelopment Project

AGENCY: Office of the Assistant Secretary for Community Planning and Development, HUD.

ACTION: Notice.

SUMMARY: The Department of Housing and Urban Development (HUD) gives notice to the public, agencies, and Indian Tribes that the Seattle Housing Authority and the City of Seattle Human Services Department (Community Development Block Grant (CDBG) Administration Unit) intend to prepare an Environmental Impact Statement (EIS) for the Yesler Terrace Redevelopment Project, located in the City of Seattle, King County, WA. The project proponent is the Seattle Housing Authority. The City of Seattle Human Services Department and the Seattle Housing Authority, acting jointly as lead agencies, will prepare the EIS under the authority of the City of Seattle Human Services Department as the Responsible Entity for compliance with the National Environmental Policy Act (NEPA) in accordance with 42 U.S.C. 5304(g) and 42 U.S.C. 1437x and HUD regulations at 24 CFR 58.4, and under the Seattle Housing Authority's role as lead agency in accordance with the Washington State Environmental Policy Act (SEPA). The EIS will be a joint NEPA and SEPA document. The EIS will satisfy requirements of SEPA (RCW 43.21C) and the SEPA Rules (WAC 197-11) which require that all State and local government agencies consider the environmental consequences of projects over which they have discretionary authority before acting on those projects. The proposed action is subject to compliance with NEPA, because funds from the public housing programs under Title I of the United States Housing Act of 1937 (HOPE VI, Capital Funds, Demolition/Disposition) will used for this project (24 CFR 58.1(b)(6)(i)). This notice is given in accordance with the Council on Environmental Quality regulations at 40 CFR parts 1500-1508. All interested Federal, State, and local agencies, Indian Tribes, groups, and the public are invited to comment on the scope of the EIS. If you are an agency with jurisdiction by law over natural or other public resources affected by the project, the Seattle Housing Authority and the City of Seattle Human Services Department need to know what environmental information germane to your statutory responsibilities should be included in the EIS.

ADDRESSES: Comments relating to the scope of the EIS are requested and will be accepted by the contact persons listed below until May 17, 2010. Any person or agency interested in receiving a notice and wishing to make comment on the scope of the EIS should contact the persons listed below.

FOR FURTHER INFORMATION CONTACT: Stephanie Van Dyke, Development Director of the Seattle Housing Authority, YTEISComments@seattlehousing.org, P.O. Box 19028, Seattle, WA 98109-1028, (f) 206-615-3539 (SEPA) and Kristen Larson, Project Funding and Agreements Coordinator, City of Seattle Human Services Department, CDBG Administration Unit, Kristen.Larson@seattle.gov, P.O. Box 34215, Seattle, WA 98124-4215, (f) 206-621-5003 (NEPA).

For additional background information on the project proposal, please see the Seattle Housing Authority Web site: http://www.seattlehousing.org/redevelopment/yesler-terrace/.

Public Participation: A public EIS Scoping meeting/open house will be held to provide an additional opportunity for the public to learn more about the proposed actions and to provide verbal or written comment on the scope of the EIS. At the meeting, the public will be able to view graphics illustrating preliminary redevelopment concepts associated with the proposed actions and speak with staff of the Seattle Housing Authority, the City of Seattle and members of the consultant team providing technical analyses in support of the project. Written comments may be mailed, sent via fax or e-mailed to the Seattle Housing Authority contact listed above or submitted at the EIS Scoping Meeting.

The meeting/open house will be held at the Yesler Terrace Gym (835 Yesler Way, Seattle, WA 98122) on April 29, 2010. An open house will be held from 6-7 p.m. and public comments on the scope will be taken at 7 p.m. For accommodations and translation services in conjunction with the public meeting please contact Collette Frazier, (p) (206) 615-3556.

SUPPLEMENTARY INFORMATION:

Project Name and Description

The Seattle Housing Authority and the City of Seattle Human Services Department will consider a proposal for a phased redevelopment of the existing Yesler Terrace residential community to a mixed-use residential community on a 28-acre site on the southern slope of First Hill in Seattle, WA. The proposed project is generally bounded by Interstate 5 on the west, Alder Street and Fir Street on the north, 12th Avenue on the east, and Washington Street on the south.

The proposed project would include development of a mix of affordable and market-rate housing, office and retail uses, as well as parks and open space, enhanced landscaping, improved streets and a system of pedestrian and bike improvements. All existing residential structures on the site would be demolished under the Proposed Action; other structures on the site may also be demolished. The existing Yesler Terrace community center would be retained. It is anticipated that the redevelopment of Yesler Terrace will take approximately 15 to 20 years to complete.

The proposed actions may involve the following: Comprehensive Plan Amendment, text amendment to the Land Use Code to allow a new zone for Yesler Terrace, street vacation, preliminary and final plat approval, adoption of a Planned Action Ordinance, Development Agreement approval, other construction and building permits and other Federal, State and local approvals for redevelopment of the Yesler Terrace community.

The EIS is also intended to fulfill SEPA requirements for a Planned Action environmental review for the portion of the site west of Boren Avenue, per RCW 43.21C.031, SMC 25.05.164 [et seq.], and SHA Resolution 4945. According to SEPA, a “Planned Action” is a designation for a project or elements of a project that shifts environmental review from the time a permit application is made to an earlier phase in the process, such as at the Comprehensive Plan amendment and/or rezone phase. The intent of this designation is to provide a more streamlined environmental process by using an existing EIS prepared at this earlier stage for SEPA compliance for long-term actions.

This is to be a combined document—an EIS under the State of Washington State Environmental Policy Act (RCW 43.21C. and WAC 197-11) and an EIS under NEPA (42 U.S.C. 4321) and implementing regulations of the Council on Environmental Quality (40 CFR parts 1500-1508) and HUD (24 CFR part 58).

Alternatives: Preliminary Yesler Terrace redevelopment concepts call for redevelopment over a range of: 3,000 to 5,000 residential units; 800,000 to 1.2 million square feet of office/institutional space; and 40,000 to 88,000 square feet of retail space. The EIS will analyze three redevelopment alternatives representing a range of densities and intensities of uses, a redevelopment alternative consistent with existing zoning, and a no-action alternative.

Probable Environmental Effects: The following subject areas will be analyzed in the combined EIS for probable environmental effects: Earth, Air Quality, Water, Plants and Animals, Energy, Environmental Health, Noise, Land Use, Housing, Aesthetics, Light and Glare, Recreation, Historic Resources, Cultural Resources, Transportation, Public Utilities, Public Services, Socioeconomics/Environmental Justice.

Lead Agencies

As a lead agency, the City of Seattle, through its Human Services Department, is the responsible entity (RE) for this project in accordance with 24 CFR part 58, “Environmental Review Procedures for Entities Assuming HUD Environmental Responsibilities.” As a RE, the City of Seattle Human Services Department assumes the responsibility for environmental review, decision-making, and action that would otherwise apply to HUD under NEPA.

In addition, the Seattle Housing Authority is the State Environmental Policy Act (SEPA) lead agency responsible for preparing an Environmental Impact Statement (EIS).

Questions may be directed to the individuals named in this notice under the heading FOR FURTHER INFORMATION CONTACT.

Date Issued: March 9, 2010.
Mercedes Marquez,
Assistant Secretary for Community Planning and Development.

[FR Doc. 2010-7099 Filed 3-30-10; 8:45 am]

BILLING CODE 4210-67-P